DEPARTMENT OF THE INTERIOR

Bureau of Land Management

[UTU 42931, UTU 42932, UTU 42933, UTU 42938, UTU 011167, and UTU 0139316]

Public Land Order No. 7666; Partial Revocation of Six Bureau of Reclamation Project Withdrawal Orders; Utah

AGENCY: Bureau of Land Management, Interior.

ACTION: Public Land Order.

SUMMARY: This order partially revokes four Secretarial Orders, one Bureau of Reclamation Order, and one Public Land Order insofar as they affect approximately 25,133 acres of lands withdrawn for the Bureau of Reclamation's Central Utah and Strawberry Valley Projects. This order opens approximately 24,293 acres of Federal lands to such forms of disposition as may by law be authorized on National Forest System lands and to mining.

DATES: Effective Date: August 28, 2006.

FOR FURTHER INFORMATION CONTACT: Reed Murray, Central Utah Project Completion Act Office, 302 East 1860 South, Provo, Utah 84606-7317, 801-379-1237.

SUPPLEMENTARY INFORMATION: The lands are no longer needed for reclamation purposes and the Bureau of Reclamation and the Forest Service concur with the partial revocation. This is a record-clearing action only for the non-Federal lands.

Order

By virtue of the authority vested in the Secretary of the Interior by Section 204 of the Federal Land Policy and Management Act of 1976, 43 U.S.C. 1714 (2000), it is ordered as follows:

1. The Secretarial Orders dated May 6, 1905, November 16, 1905, January 30, 1906, and November 17, 1916, which withdrew lands for the Bureau of Reclamation's Strawberry Valley Project; and the Bureau of Reclamation Order dated December 17, 1954 (20 FR 8580), and Public Land Order No. 3682 (30 FR 7821), which withdrew lands for the Bureau of Reclamation's Central Utah Project, are hereby revoked insofar as they affect the following described lands:

(a) Federal Lands

Uinta National Forest

Salt Lake Meridian

T. 8 S., R. 4 E.,

Sec. 36, lots 1 to 4, inclusive, lots 6, 7, 8, 12, and 13, and NW¼.

T. 9 S., R. 4 E.,

Sec. 1, SE¼SE¼;

Sec. 3, lots 1 and 2, SE¼NE¼, and NE¼SE¼;

Sec. 9, NE¼NE¼ and SW¼SW¼;

Sec. 10, N½NW¼;

Sec. 17, N½NE¼, SW¼NE¼, and NE¼NW¼.

T. 8 S., R. 5 E.,

Sec. 1, lots 2, 3, and 4, and S½S½;

Sec. 2, lots 1, 2, and 7;

Sec. 12, N½, SW¼, NE¼SE¼, and W½SE¼;

Sec. 13, NW¼NE¼, NW¼, and NW¼SW¼;

Sec. 20, E½NE¼SE¼ and SE¼SE¼;

Sec. 21, S½NE¼, E½SW¼NW¼, SE¼NW¼, SW¼, N½SE¼, and SW¼SE¼;

Sec. 22, NE¼, E½NW¼, SW¼NW¼, and N½S½;

Sec. 23, E½E½ and W½NW¼;

Sec. 24, E½E½, NW¼, NW¼SW¼, and SW¼SE¼;

Sec. 25, NE¼, NE¼NW¼, S½NW¼, and S½;

Sec. 26, W½NE¼;

Sec. 27, N½NW¼;

Sec. 28, NW¼NW¼;

Sec. 29, E½, SE¼NW¼, and SW¼;

Sec. 31, lots 1, 3, and 4, NW¼NE¼, NE¼NW¼, E½SW¼, and SE¼;

Sec. 32, N½NE¼, NE¼NW¼, and S½;

Sec. 33, NW¼NW¼, E½SW¼, and SE¼;

Sec. 34, S½NE¼, SE¼NW¼, and S½;

Sec. 35, NE¼, NE¼NW¼, S½NW¼, and S½;

Sec. 36.

T. 7 S., R. 6 E.,

Sec. 32, N½, W½SW¼, NE¼SW¼, and NW¼SE¼;

Sec. 33, N½NE¼, SW¼NE¼, and NW¼;

Sec. 34, NE¼, E½NW¼, NW¼NW¼, and N½SE¼;

Sec. 35, N½ and N½S½.

T. 8 S., R. 6 E.,

Sec. 2, lots 1 to 8, inclusive, lots 11, 12, 14, 15, and 16;

Sec. 3, lots 1, 2, and 3, lots 5 to 16, inclusive, N½SW¼, and SE¼SE¼;

Sec. 4, lots 4 to 16, inclusive, and S½;

Sec. 5, lots 1, lots 6 to 16, inclusive, and S½;

Sec. 6, lots 2 and16, and SE¼SW¼;

Sec. 7, E½NW¼;

Sec. 8, NE¼, E½W½, and NW¼SE¼;

Sec. 9, NW¼NE¼, N½NW¼, SW¼NW¼, SE¼SW¼, and SE¼;

Sec. 10, E½, S½NW¼, and SW¼;

Secs. 11 and 16;

Sec. 17, E½E½;

Sec. 18, SE¼;

Sec. 19;

Sec. 20, E½E½ and SW¼SW¼;

Sec. 29, E½NE¼, W½W½, and NE¼SE¼;

Secs. 30 and 31.

Uintah Special Meridian

T. 3 S., R. 12 W.,

Sec. 11;

Sec. 13, W½NE¼, SE¼NE¼, NW¼, and S½;

Sec. 14;

Sec. 24, NE¼NE¼, W½E½, and W½;

Sec. 25, N½, SW¼, and N½SE¼;

Sec. 36, S½SW¼.

T. 4 S., R. 12 W.,

Sec. 1, S½NE¼ and S½;

Sec. 2, NW¼NE¼, N½NW¼, NW¼SW¼, and S½SE¼;

Sec. 3, lots 1, 2, 4, and 5, and NE¼SE¼;

Sec. 10, lots 3 and 4, SE¼NE¼, and E½SE¼;

Sec. 11, N½N½, SW¼NE¼, S½NW¼, and NW¼SW¼;

Secs. 12, 13, 24, 25, and 35.

(b) Non-Federal Lands

Salt Lake Meridian

T. 9 S., R. 3 E.,

Sec. 16.

T. 9 S., R. 4 E.,

Sec. 3, SW¼NE¼, N½SW¼, and NW¼SE¼;

Sec. 9, NW¼SE¼.

The areas described aggregate approximately 25,133 acres in Duchesne and Utah Counties.

2. At 10 a.m. on August 28, 2006, the lands described in Paragraph 1(a) shall be opened to such forms of disposition as may by law be authorized on National Forest System lands, including location and entry under the United States mining laws, subject to valid existing rights, the provisions of existing withdrawals, other segregations of record, and the requirements of applicable law. Appropriation of any of the lands described in Paragraph 1(a) under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: July 3, 2006.
R. Thomas Weimer,
Assistant Secretary of the Interior.

[FR Doc. E6-12007 Filed 7-26-06; 8:45 am]

BILLING CODE 4310-RK-P